DEPARTMENT OF AGRICULTURE

Forest Service

Glenn/Colusa County Resource Advisory Committee

AGENCY: Forest Service, USDA.

ACTION: Notice of meeting.

SUMMARY: The Glenn/Colusa County Resource Advisory Committee (RAC) will meet in Williows, California. Agenda items covered include: (1) Introductions, (2) Public Comment, (3) Status of Current Members, (4) Status of Funding, (5) Status of Legislation, (6) Set up Schedule for Accepting and Voting on Projects, (7) General Discussion, (8) Next Agenda.

DATES: The meeting will be held on June 25, 2007, from 1:30 p.m. and end at approximately 4:30 p.m.

ADDRESSES: The meeting will be held at the Medocino National Forest Supervisor's Office, 825 N. Humboldt Ave., Willows, CA 95988. Individuals who wish to speak or propose agenda items send their names and proposals to Eduardo Olmedo, DFO, 825 N. Humboldt Ave., Willows, CA 95988.

FOR FURTHER INFORMATION CONTACT: Bobbin Gaddini, Committee Coordinator, USDA, Mendocino National Forest, Grindstone Ranger District, P.O. Box 164, Elk Creek, CA 95939. (530) 968-1815; e-mail ggaddini@fs.fed.us.

SUPPLEMENTARY INFORMATION: The meeting will be open to the public. Committee discussion is limited to Forest Service staff and Committee members. However, persons who wish to bring matters to the attention of the Committee will file written statements with the Committee staff before or after the meeting. Public input sessions are provided and individuals who made written request by June 21, 2007 have the opportunity to address the committee at those sessions.

Dated: June 4, 2007.
Eduardo Olmedo,
Designated Federal Official.

[FR Doc. 07-2906 Filed 6-12-07; 8:45 am]

BILLING CODE 3410-11-M